DEPARTMENT OF THE INTERIOR

Bureau of Land Management

[LLORS04000.L63100000.HD0000.14XL1116AF-LXSS033H0000-252Z-HAG14-0086]

Notice of Seasonal Road Closure for Public Lands in the Pine Crest Area of Clackamas County, Oregon

AGENCY: Bureau of Land Management, Interior.

ACTION: Notice of Seasonal Road Closure on Public Lands in Oregon.

SUMMARY: Notice is hereby given that a seasonal road closure is in effect on public lands administered by the Bureau of Land Management (BLM) Salem District in the Pine Crest area, Clackamas County, Oregon. This seasonal closure includes all roads accessible by Pine Crest Road number 6S-3E-30, which includes road numbers 7S-3E-5 and 7S-3E-8.

DATES: This seasonal closure of public motor vehicle access will be in effect annually from January 1 to September 1, or the first day of the local bow hunting season, whichever comes first.

FOR FURTHER INFORMATION CONTACT: John Huston, Cascades Resource Area Field Manager; or Jim England, Wildlife Biologist, BLM Salem District Office, 1717 Fabry Road SE., Salem, OR 97306, telephone 503-375-5646. Persons who use a telecommunications device for the deaf (TDD) may call the Federal Information Relay Service (FIRS) at 1(800) 877-8339 to contact the above individual during normal business hours. The FIRS is available 24 hours a day, 7 days a week, to leave a message or question with the above individual(s). You will receive a reply during normal business hours.

SUPPLEMENTARY INFORMATION: This closure affects roads accessed by Pine Crest Road number 6S-3E-30 and includes road numbers 7S-3E-5 and 7S-3E-8 beyond the Pine Crest Bridge in the Molalla River Corridor, Clackamas County, Oregon. The legal description of the affected public lands is: Township 6 South, Range 3 East, W.M., sec. 30, all; sec. 31, all; sec. 32, W1/2W1/2. Township 7 South, Range 3 East, W.M., sec. 1, Lots 2 to 6, inclusive, S1/2NE1/4, S1/2NW1/4, SW1/4, N1/2SE1/4; sec. 2, all; sec. 5, all; sec. 6, all; sec. 8, Lot 1, NE1/4NE1/4; sec. 9, all; sec. 10, all; sec. 11, Lots 1 to 9, inclusive, NW1/4—containing 5,593 acres, more or less.

The road closure in the area described above is necessary to prevent resource damage, wildlife disturbance, potential for fire start and threats to public safety while allowing access for fall hunting season. The BLM will post closure signs at main entry points to this area. This closure order will be posted at the BLM Salem District Office, 1717 Fabry Road SE., Salem, OR 97306, and be available by contacting the BLM Salem District at salem_mail@blm.gov.

Maps of the affected area, the Environmental Assessment (number DOI-BLM-OR-S040-2010-0003), the Molalla River—Table Rock Recreation Area Management Plan and Decision Record, and other documents associated with this closure are available on the BLM Salem District Web site at http://www.blm.gov/or/districts/salem/plans/molalla/index.php.

Under the authority of Section 303(a) of the Federal Land Policy and Management Act of 1976 (43 U.S.C. 1733(a)), 43 CFR 8360.0-7, and 43 CFR 8364.1, the BLM will enforce the following rule(s) within Pine Crest area:

No motorized vehicles are allowed in the closed area.

The following persons are exempt from this order: Federal, state, and local officers and employees in the performance of their official duties; private landowners with access rights; members of organized rescue or fire-fighting forces in the performance of their official duties; and persons with permits or written authorization from the BLM. Any person who violates the above rule(s) and/or restriction(s) may be tried before a United States Magistrate and fined no more than $1,000, imprisoned for no more than 12 months, or both. Such violations may also be subject to the enhanced fines provided for by 18 U.S.C. 3571.

Roy Price,
Acting Salem District Manager.

[FR Doc. 2014-13172 Filed 6-5-14; 8:45 am]

BILLING CODE 4310-33-P